DEPARTMENT OF THE TREASURY

Community Development Financial Institutions Fund Proposed Collection; Comment Request

ACTION: Notice and request for comments.

SUMMARY: The U.S. Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions (CDFI) Fund, Department of the Treasury, is soliciting comments concerning the Qualified Issuer Application, the Guarantee Application, and the Secondary Loan Requirements for the Community Development Financial Institutions (CDFI) Bond Guarantee Program.

DATES: Written comments should be received on or before December 27, 2013 to be assured of consideration.

ADDRESSES: Direct all comments to Lisa Jones, CDFI Bond Guarantee Program Manager, at the Community Development Financial Institutions Fund, U.S. Department of the Treasury, 1500 Pennsylvania Avenue NW., Washington, DC 20020 by email to bgp@cdfi.treas.gov or by facsimile to (202) 508-0083. Please note this is not a toll free number.

FOR FURTHER INFORMATION CONTACT: The applications for the CDFI Bond Guarantee Program, as well as the Secondary Loan Requirements, may be obtained from the CDFI Bond Guarantee Program page of the CDFI Fund's Web site at http://www.cdfifund.gov. Requests for additional information should be directed to Lisa Jones, CDFI Bond Guarantee Program Manager, at the Community Development Financial Institutions Fund, U.S. Department of the Treasury, 1500 Pennsylvania Avenue NW., Washington, DC 20020 by email to bgp@cdfi.treas.gov or by facsimile to (202) 508-0083. Please note this is not a toll free number.

SUPPLEMENTARY INFORMATION: Title: CDFI Bond Guarantee Program Qualified Issuer Application, Guarantee Application, and Secondary Loan Requirements.

OMB Number: 1559-0044.

Abstract: The purpose of the CDFI Bond Guarantee Program is to support CDFI lending by providing Guarantees for Bonds issued by Qualified Issuers as part of a Bond Issue for Eligible Community or Economic Development Purposes. The CDFI Bond Guarantee Program provides CDFIs with a new source of long-term capital and further the mission of the CDFI Fund to increase economic opportunity and promote community development investments for underserved populations and distressed communities in the United States. The CDFI Fund achieves its mission by promoting access to capital and local economic growth by investing in, supporting, and training CDFIs.

Under the CDFI Bond Guarantee Program, an applicant apply to be approved as a Qualified Issuer (QI) by completing and submitting the Qualified Issuer Application (QI Application). A Qualified Issuer must submit a Guarantee Application in order to be approved for a Guarantee under the program. Applicants are required to provide financial and program related information and, subject to approval, will enter into agreements that require the collection of reports that will be used for credit underwriting, compliance monitoring and program evaluation purposes. The application information is required in order for program management to evaluate an applicant's capacity to effectively execute its obligations under the Bond Documents.

Compliance with the Secondary Loan Requirements is required for an Eligible CDFI to make a Secondary Loan through the program. It is by attesting to the Secondary Loan Requirements that the Eligible CDFI demonstrates and makes representations with regard to its organizational competence in the evaluation and underwriting of the operational and financial requirements of the proposed projects to which it desires to provide financial support using bond loan proceeds.

Current Actions: Revision of a currently approved collection.

Type of Review: Regular Review.

Affected Public: Certified CDFIs and entities seeking to become Qualified Issuers.

Estimated Number of Qualified Issuer Respondents: 20.

Estimated Annual Time per Qualified Issuer Respondent: 240 hours.

Estimated Number of Guarantee Application Respondents: 50.

Estimated Annual Time per Guarantee Application Respondent: 50 hours.

Estimated Number of Secondary Loan Requirement Respondents: 20.

Estimated Annual Time per Secondary Loan Requirement Respondent: 50.

Estimated Total Annual Burden Hours: 8,300 hours.

Requests for Comments: Comments submitted in response to this notice will be summarized and/or included in the request for Office of Management and Budget approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

The CDFI Fund specifically requests comments concerning the following questions:

(1) Are the revised drafts of the Qualified Issuer Application and Guarantee Application clearer and more streamlined than the applications used for the FY 2013 round?

(2) Is there additional information or instructions that the CDFI Fund should provide to clarify the application process?

(3) Are there additional or alternative data that the CDFI Fund should request in order to consider different institution types that may be eligible to serve as Qualified Issuers?

(4) Do the Qualified Issuer Application and Guarantee Application ask the appropriate questions to determine an applicant's financial health and viability?

(5) Are there additional asset classes that should be included for purposes of Secondary Loan Requirements?

(6) How should the Secondary Loan Requirements be modified to reduce the burden of program participation?

Authority: 12 U.S.C. 1834a, 4703, 4703 note, 4713, 4717; 31 U.S.C. 321; 12 CFR part 1808.

Dated: October 23, 2013.
Dawn D. Wolfgang,
Treasury PRA Clearance Officer.

[FR Doc. 2013-25318 Filed 10-25-13; 8:45 am]

BILLING CODE 4810-70-P